DEPARTMENT OF THE INTERIOR

Bureau of Land Management

[LLORM06000.L63340000.XI0000.13XL1116AF; OR-57811; HAG-13-0222]

Notice of Realty Action; Proposed Modified Competitive Sale of Public Land in Jackson County, Oregon

AGENCY: Bureau of Land Management, Interior.

ACTION: Notice of realty action.

SUMMARY: The Bureau of Land Management (BLM) proposes to sell a 9.26 acre parcel of public land in Jackson County, Oregon, by modified competitive bidding sale procedures for the approved appraised fair market value of $4,500.

DATES: The BLM must receive comments regarding the proposed sale on or before September 9, 2013.

ADDRESSES: Written comments concerning this proposed sale may be submitted to Ashland Resource Area Field Manager, BLM Medford District Office, 3040 Biddle Road, Medford, OR 97504.

ADDRESSES: Rik Arndt, Supervisory Realty Specialist, 3040 Biddle Road, Medford, OR 97504 or phone at 541-618-2239. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to Sections 203 and 209 of the Federal Land Policy and Management Act of 1976, as amended (FLPMA), (43 U.S.C. 1713 and 1719) and regulations at 43 CFR subpart 2710, this conveyance would be made by modified competitive bidding sale procedures, with bidding limited to the two adjacent landowners identified below:

Kurt Wilkening and Toree Wilkening, Trustees or Their Successors in Trust under the Wilkening Living Trust Dated January 27, 1999, P.O. Box 3396, Applegate, OR 97530 and Leslie C. and Rachel A. Martin, 11777 Highway 238, Jacksonville, OR 97530.

The land to be sold is described as follows:

The following land located in Jackson County.

Willamette Meridian, Oregon

Township 38 South, Range 4 West,

Sec. 25, Lot 7

Containing 9.26 acres, more or less.

The parcel was identified in the Medford District 1995 Resource Management Plan (as amended August 2, 2002) as Land Tenure Zone 3 lands, which are suitable for sale or exchange. Land Tenure Zone 3 lands meet the criteria for disposal as outlined in Section 203 of FLMPA. An environmental assessment for the land sale was made available for a 30-day public comment period from October 12, 2011 through November 11, 2011, and no comments were received. Due to the lack of legal access and the small size and irregular shape of the parcel, Federal management of this parcel would be difficult and uneconomical and would provide minimal benefits in the public's interest if retained in Federal ownership. The public interest would be best served by disposing of this parcel to one of the adjacent landowners since the parcel is landlocked. The parcel is L-shaped, with one leg approximately 1,320 feet in length by 74 feet wide, and the second leg approximately 1,070 feet in length by 246 feet wide. The parcel contains no known mineral, geothermal or oil/gas values, and the parcel will be conveyed with no reservation of minerals. Conveyance of the identified public land will be subject to all valid existing rights of record and contain the following terms, conditions, and reservations.

a. A reservation of a right-of-way to the United States for ditches and canals constructed by the authority of the United States under the Act of August 30, 1890 (43 U.S.C. 945).

b. An appropriate indemnification clause protecting the United States from claims arising out of the patentee's use, occupancy, or operation on the patented lands.

c. No ground disturbing activities shall be conducted on the conveyed land, such as grazing, motorized vehicle use/storage/maintenance, water development, construction (commercial, residential or recreational), road construction, renovation, or road use, within 150 feet of waters of the State, including, but not limited to, Keeler Creek, unnamed tributaries, springs, and outflow channels.

d. Vegetation shall not be removed from within the identified 150 feet riparian buffer except for the purpose of on-site fisheries enhancement projects to be approved and administered by local fish and wildlife agencies, primarily the Oregon Department of Fish and Wildlife.

On July 26, 2013, the above described land will be segregated from appropriation under the public land laws, including the mining laws, except the sale provisions of FLPMA. Until completion of the sale, the BLM is no longer accepting land use applications affecting the identified public land. The temporary segregation effect will terminate upon issuance of a conveyance document, publication in the Federal Register of a termination of the segregation, or July 27, 2015, unless extended by the BLM Oregon/Washington State Director in accordance with 43 CFR 2711.1-2(d) prior to the termination date. Detailed information concerning the proposed land sale—including the appraisal, planning and environmental documents, and mineral potential report—is available for review at the BLM Medford District Office at the location identified in the ADDRESSES section above during normal business hours. Normal business hours are 7:45 a.m. to 4:30 p.m., Monday through Friday, except Federal holidays. The Decision Record for the Environmental Analysis is available for review on the BLM Web site at: http://www.blm.gov/or/districts/medford/plans/index.php. Public comments regarding the proposed sale must be submitted in writing to the BLM Ashland Resource Area Field Manager (see the ADDRESSES section) on or before September 9, 2013. Comments received by telephone or in electronic form, such as email or facsimile, will not be considered. Any adverse comments regarding the proposed sale will be reviewed by the Ashland Field Manager or other authorized officials of the Department of the Interior, who may sustain, vacate, or modify this realty action in whole or in part. In the absence of timely filed objections, this realty action will become the final determination of the Department of the Interior not less than 60 days from July 26, 2013.

Before including your address, phone number, email address, or other personal identifying information in your comment, you should be aware that your entire comment-including your personal identifying information-may be made publicly available at any time. While you can ask us in your comment to withhold your personal identifying information from public review, we cannot guarantee that we will be able to do so.

Authority: 43 CFR 2710, 2711 and 2720.

John Gerritsma,
Field Manager, Ashland Resource Area.

[FR Doc. 2013-17978 Filed 7-25-13; 8:45 am]

BILLING CODE 4310-33-P